DEPARTMENT OF TRANSPORTATION

Federal Aviation Administration

14 CFR Part 39

[Docket No. FAA-2014-0386; Directorate Identifier 2014-NE-09-AD; Amendment 39-17897; AD 2014-12-52]

RIN 2120-AA64

Airworthiness Directives; Honeywell International Inc. (Type Certificate Previously Held by AlliedSignal Inc., Garrett Turbine Engine Company) Turbofan Engines

AGENCY: Federal Aviation Administration (FAA), DOT.

ACTION: Final rule; request for comments.

SUMMARY: We are superseding emergency airworthiness directive (AD) 2014-12-52 for all Honeywell International Inc. TFE731-4, -4R, -5AR, -5BR, -5R, -20R, -20AR, -20BR, -40, -40AR, -40R, -40BR, -50R, and -60 turbofan engines. Emergency AD 2014-12-52 was sent previously to all known U.S. owners and operators of these engines. AD 2014-12-52 required, before further flight, a review of the engine logbook maintenance records to determine if any affected engines are installed. AD 2014-12-52 also prohibited operation of an airplane with two or more affected engines that have 2nd stage low-pressure turbine (LPT2) blades with less than 250 operating hours since new. This AD retains the requirements of AD 2014-12-52 and clarifies the intent of the mandatory requirements. This AD was prompted by reports of LPT2 blade separations. We are issuing this AD to prevent LPT2 blade failure, multiple engine in-flight shutdowns, and damage to the airplane.

DATES: This AD is effective July 28, 2014.

We must receive comments on this AD by August 25, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Honeywell International Inc., 111 S. 34th Street, Phoenix, AZ 85034-2802; phone: (800) 601-3099; Internet: http://www.myaerospace.com. You may view this service information at the FAA, Engine & Propeller Directorate, 12 New England Executive Park, Burlington, MA. For information on the availability of this material at the FAA, call (781) 238-7125.

Examining the AD Docket

You may examine the AD docket on the Internet at http://www.regulations.gov by searching for and locating Docket No. FAA-2014-0386; or in person at the Docket Operations Office between 9 a.m. and 5 p.m., Monday through Friday, except Federal holidays. The AD docket contains this AD, the regulatory evaluation, any comments received, and other information. The street address for the Docket Operations Office (phone: 800-647-5527) is in the ADDRESSES section. Comments will be available in the AD docket shortly after receipt.

FOR FURTHER INFORMATION CONTACT: Joseph Costa, Aerospace Engineer, Los Angeles Aircraft Certification Office, FAA, Transport Airplane Directorate, 3960 Paramount Blvd., Lakewood, CA 90712-4137; phone: 562-627-5246; fax: 562-627-5210; email: joseph.costa@faa.gov.

SUPPLEMENTARY INFORMATION:

Discussion

On June 10, 2014, we issued Emergency AD 2014-12-52, which requires, before further flight, a review of the engine logbook maintenance records to determine if any affected engines are installed. Emergency AD 2014-12-52 also required for two-engine airplanes or for three-engine airplanes, that have two or more engines installed with LPT2 blades installed that have less than 250 operating hours since new, remove all affected engines before further flight. Emergency AD 2014-12-52 was sent previously to all known U.S. owners and operators of these TFE731-4, -4R, -5AR, -5BR, -5R, -20R, -20AR, -20BR, -40, -40AR, -40R, -40BR, -50R, and -60 turbofan engines. This action was prompted by reports of LPT2 blade separations. Analysis indicates the presence of casting anomalies at or near the root of the LPT2 blade. This condition, if not corrected, could result in LPT2 blade failure, multiple engine in-flight shutdowns, and damage to the airplane. We are superseding Emergency AD 2014-12-52 to clarify the intent of paragraphs (e) and (f) of this AD.

Relevant Service Information

We reviewed Honeywell Alert Service Bulletin (ASB) No. TFE731-72-A3792, dated June 5, 2014; ASB No. TFE731-72-A5242, dated June 5, 2014; and ASB No. TFE731-72-A5243, dated June 5, 2014. The service information describes procedures for identifying affected engines and follow-on actions.

FAA's Determination

We are issuing this AD because we evaluated all the relevant information and determined the unsafe condition described previously is likely to exist or develop in other products of the same type design.

AD Requirements

This AD requires, before further flight, a review of the engine logbook maintenance records to determine if any affected engines are installed. If any affected engines are installed, then this AD prohibits operation of an airplane with two or more affected engines that have LPT2 blades with less than 250 operating hours since new.

Differences Between This AD and the Service Information

Paragraphs (e)(2) and (e)(3) of this AD require that certain affected engines be removed before further flight. Honeywell ASB No. TFE731-72-A3792, dated June 5, 2014; ASB No. TFE731-72-A5242, dated June 5, 2014; and ASB No. TFE731-72-A5243, dated June 5, 2014, for airplanes having only one affected engine installed, require no action at this time and may continue operation.

Interim Action

We consider this AD to be an interim action. We anticipate that further AD action will follow.

FAA's Determination of the Effective Date

An unsafe condition exists that requires the immediate adoption of this AD. The FAA has found that the risk to the flying public justifies waiving notice and comment prior to adoption of this rule because of compliance requirement before further flight. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include “Docket No. FAA-2014-0386; Directorate Identifier 2014-NE-09-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 50 engines installed on airplanes of U.S. registry. We also estimate that it will take about 18 hours per engine to comply with this AD. The average labor rate is $85 per hour. Required parts cost about $0 per engine. Based on these figures, we estimate the cost of this AD on U.S. operators to be $76,500.

Authority for This Rulemaking

Title 49 of the United States Code specifies the FAA's authority to issue rules on aviation safety. Subtitle I, section 106, describes the authority of the FAA Administrator. Subtitle VII: Aviation Programs describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-12-52 Honeywell International Inc. (Type Certificate previously held by AlliedSignal Inc., Garrett Turbine Engine Company): Amendment 39-17897; Docket No. FAA-2014-0386; Directorate Identifier 2014-NE-09-AD.

(a) Effective Date

This AD is effective July 28, 2014.

(b) Affected ADs

This AD supersedes Emergency AD 2014-12-52, Directorate Identifier 2014-NE-09-AD, dated June 10, 2014.

(c) Applicability

This AD applies to all Honeywell International Inc. TFE731-4, -4R, -5AR, -5BR, -5R, -20R, -20AR, -20BR, -40, -40AR, -40R, -40BR, -50R, and -60 turbofan engines with 2nd stage low-pressure turbine (LPT2) blades, part number (P/N) 3075424-1, -2, or -3, installed.

(d) Unsafe Condition

This AD was prompted by reports of LPT2 blade separations. Analysis indicates the presence of casting anomalies at or near the root of the LPT2 blade. We are issuing this AD to prevent LPT2 blade failure, multiple engine in-flight shutdowns, and damage to the airplane.

(e) Compliance

Comply with this AD within the compliance times specified, unless already done.

(1) Before further flight, review engine logbook maintenance records to determine if any engine is installed that has LPT2 blade, P/N 3075424-1, -2, or -3, installed with less than 250 operating hours since new on the blade.

(2) For two-engine airplanes that have two engines with LPT2 blades installed that have less than 250 operating hours since new, remove all affected engines before further flight.

(3) For three-engine airplanes that have two or more engines with LPT2 blades installed that have less than 250 operating hours since new, remove all affected engines before further flight.

(4) After the effective date of this AD, do not install any engine that has installed in it LPT2 blades, P/N 3075424-1, -2, or -3, that have less than 250 operating hours since new.

(f) Special Flight Permit

Special flight permits are permitted for one over-land ferry flight to a maintenance facility where engines can be removed.

(g) Alternative Methods of Compliance (AMOCs)

The Manager, Los Angeles Aircraft Certification Office, FAA, may approve AMOCs for this AD. Use the procedures found in 14 CFR 39.19 to make your request.

(h) Related Information

(1) For more information about this AD, contact Joseph Costa, Aerospace Engineer, Los Angeles Aircraft Certification Office, FAA, Transport Airplane Directorate, 3960 Paramount Blvd., Lakewood, CA 90712-4137; phone: 562-627-5246; fax: 562-627-5210; email: joseph.costa@faa.gov.

(2) Honeywell International Alert Service Bulletin (ASB) No. TFE731-72-A3792, dated June 5, 2014; ASB No. TFE731-72-A5242, dated June 5, 2014; and ASB No. TFE731-72-A5243, dated June 5, 2014, which are not incorporated by reference in this AD, can be obtained from Honeywell International Inc., using the contact information in paragraph (h)(3) of this AD.

(3) For service information identified in this AD, contact Honeywell International Inc., 111 S. 34th Street, Phoenix, AZ 85034-2802; phone: 800-601-3099; Internet: http://www.myaerospace.com.

(4) You may view this service information at the FAA, Engine & Propeller Directorate, 12 New England Executive Park, Burlington, MA. For information on the availability of this material at the FAA, call 781-238-7125.

Issued in Burlington, Massachusetts, on July 7, 2014.
Ann C. Mollica,
Acting Assistant Directorate Manager, Engine & Propeller Directorate, Aircraft Certification Service.

[FR Doc. 2014-16244 Filed 7-10-14; 8:45 am]

BILLING CODE 4910-13-P